DEPARTMENT OF ENERGY

Office of Energy Efficiency and Renewable Energy

Advisory Committee on Appliance Energy Efficiency Standards

AGENCY: Department of Energy.

ACTION: Notice of open meeting.

SUMMARY: This notice announces a meeting of the Energy Conservation Program for Consumer Products: Advisory Committee on Appliance Energy Efficiency Standards. Federal Advisory Committee Act (Pub. L. 92-463, 86 Stat. 770) requires that public notice of these meetings be announced in the Federal Register.

DATE AND TIME: October 24, 2000, 9 a.m.-4:30 p.m.

ADDRESSES: U.S. Dept. of Energy, 1000 Independence Avenue, SW., Room 1E-245, Washington, DC 20585-0121.

FOR FURTHER INFORMATION CONTACT: Brenda Edwards, U.S. Department of Energy, Office of Energy Efficiency and Renewable Energy, Forrestal Building, Mail Station EE-41, 1000 Independence Avenue, SW., Washington, DC 20585-0121, (202) 586-2945.

SUPPLEMENTARY INFORMATION: Purpose of the Meeting: The Charter of the Advisory Committee has been renewed for two years to December 2000. This is the fourth meeting of the Committee since the charter was renewed. The Committee will review and deliberate on DOE's activities regarding appliance energy efficiency standards and provide comments and recommendations to the Department.

Tentative Agenda

1. Introductions, Agenda Review (9:00 a.m.)

2. Chairman's Opening Remarks

3. Update members on DOE rulemaking: schedule, priorities, and plans for FY 2001

4. Secretary's response to the Committee's consumer and electronic database recommendations

5. Discuss: should DOE consider setting standards for products beyond those listed by Congress

6. Discuss: is DOE using the correct performance standard descriptors

—should standby power be considered

—how should the parasitic power issue be considered

7. Discuss fuel neutrality: how should DOE consider this in revising established standards, and what analysis is most appropriate

8. Discuss harmonization of DOE and international test procedures and standards

9. Discuss alternative approaches for determining manufacturing cost-efficiency curves data

10. Action Items

11. Chairman's Closing Remarks

12. Adjourn (4:30 p.m.)

Please note that this draft agenda is preliminary. The times and agenda items listed are guidelines and are subject to change. A final agenda will be available at the meeting on Tuesday, October 24, 2000.

Consumer Issues: The Department is interested in addressing consumer issues in its rulemakings. If you have any issues which you would like to be addressed by the Committee, please contact Ms. Brenda Edwards-Jones at the address and phone number listed in the beginning of this notice.

Public Participation: The meeting is open to the public. If you would like to file a written statement with the Panel, you may do so with before or after the meeting. Please provide ten copies of your statement. If you would like to make oral statements regarding any of these items on the agenda, you should contact Brenda Edwards-Jones at (202) 586-2945. You must make your request for an oral statement at least seven days before the meeting. Presentations will be limited to five minutes. We will try to include the statement in the agenda. The Chairperson of the Committee will conduct the meeting to facilitate the orderly conduct of business.

Minutes: We will make the transcript of this meeting available for public review and copying within 30 days at the Freedom of Information Public Reading Room, Room 1E-190, Forrestal Building, 1000 Independence Avenue, SW, Washington, DC 20585, (202) 586-3142, between 9:00 a.m. and 4:00 p.m., Monday through Friday, except Federal holidays.

Issued in Washington, DC, on September 5, 2000.
Rachel Samuel,
Deputy Advisory Committee Management Officer.

[FR Doc. 00-23233 Filed 9-8-00; 8:45 am]

BILLING CODE 6450-01-P